GENERAL SERVICES ADMINISTRATION

[Docket 2010-009; Sequence 3]

Federal Travel Regulation (FTR); Directions for Reporting Other Than Coach-Class Accommodations for Employees on Official Travel

AGENCY: Office of Governmentwide Policy, General Services Administration (GSA).

ACTION: Notice of GSA Bulletin FTR 10-05.

SUMMARY: The General Services Administration (GSA), in conjunction with the Government Accountability Office (GAO) report, Premium Class Travel: Internal Control Weaknesses Governmentwide Led to Improper and Abusive Use of Premium Class Travel (GAO-07-1268), has issued GSA Bulletin FTR 10-05. This bulletin provides directions to Federal Agencies for reporting other than coach-class accommodations for employees on official travel. GSA Bulletin FTR 10-05 may be found at http://www.gsa.gov/federaltravelregulation.

DATES: The provisions in this Bulletin are effective June 9, 2010.

FOR FURTHER INFORMATION CONTACT: Mr. Patrick O'Grady, Office of Governmentwide Policy (M), Office of Travel, Transportation, and Asset Management (MT), General Services Administration at (202) 208-4493 or via e-mail at patrick.ogrady@gsa.gov. Please cite GSA Bulletin FTR 10-05.

Dated: June 16, 2010.
Becky Rhodes,
Associate Administrator, Office of Travel, Transportation, and Asset Management.

[FR Doc. 2010-15433 Filed 6-24-10; 8:45 am]

BILLING CODE 6820-14-P